SMALL BUSINESS ADMINISTRATION

[Disaster Declaration #11027]

Idaho Disaster #ID-00004 Declaration of Economic Injury

AGENCY: Small Business Administration.

ACTION: Notice.

SUMMARY: This is a notice of an Economic Injury Disaster Loan (EIDL) declaration for the State of IDAHO, dated 09/11/2007.

Incident: Castle Rock Wild Land Fire.

Incident Period: 08/19/2007 and continuing.

Effective Date: 09/11/2007.

EIDL Loan Application Deadline Date: 06/11/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's EIDL declaration, applications for economic injury disaster loans may be filed at the address listed above or other locally announced locations.

The following areas have been determined to be adversely affected by the disaster:

Primary Counties: Blaine.

Contiguous Counties:

Idaho: Bingham, Butte, Camas, Cassia, Custer, Elmore, Lincoln, Minidoka, Power.

The Interest Rate is: 4.000.

The number assigned to this disaster for economic injury is 110270.

The State which received an EIDL Declaration # is Idaho.

(Catalog of Federal Domestic Assistance Number 59002).

Dated: September 11, 2007.
Steven C. Preston,
Administrator.

[FR Doc. E7-18321 Filed 9-17-07; 8:45 am]

BILLING CODE 8025-01-P